Title 3—

The President

Proclamation 7583 of August 16, 2002

National Health Center Week, 2002

By the President of the United States of America

A Proclamation

America's community health centers are a vital part of our healthcare safety net, providing primary care services to uninsured, low-income families and individuals, regardless of their ability to pay.

Community health centers ensure that all citizens have access to medical treatment and preventative care. Each year, community, migrant, public housing, and homeless health centers serve more than 12 million citizens at over 3,300 delivery sites throughout urban and rural communities in all 50 States, the District of Columbia, Puerto Rico, Guam, and the Virgin Islands. These centers care for 1 of every 5 low-income children and 1 of every 12 rural residents. By working together with schools, businesses, churches, community organizations, foundations, and State and local governments, these health centers strive to meet the special needs and priorities of communities and to improve the health and well-being of countless families and individuals.

Health centers offer responsive and cost-effective health care that includes comprehensive primary and preventive services; prenatal and postpartum care; patient education, case management, and outreach; translation and other support services. My Administration is committed to increasing Federal support of healthcare centers. Through my Community and Migrant Health Centers Initiative we are working to double the number of patients served in these centers, and create 1,200 new and expanded health center sites over 5 years.

With the observance of National Health Center Week, we recognize the important role and the invaluable contributions of America's health centers, their staff, board members, and all those responsible for their success. During National Health Center week, I join in encouraging all Americans to celebrate the importance of health centers to our communities by participating in health fairs and screenings, blood drives, immunizations, and open house events.

NOW, THEREFORE, I, GEORGE W. BUSH, President of the United States of America, by virtue of the authority vested in me by the Constitution and laws of the United States, do hereby proclaim August 18 through 24, 2002, as National Health Center Week. I encourage all Americans to observe this week with appropriate activities and programs in order to raise their awareness of the importance and variety of services provided by America's health centers.

IN WITNESS WHEREOF, I have hereunto set my hand this sixteenth day of August, in the year of our Lord two thousand two, and of the Independence of the United States of America the two hundred and twenty-seventh.

B

[FR Doc. 02-21341

Filed 8-19-02; 8:45 am]

Billing code 3195-01-P